DEPARTMENT OF ENERGY

Federal Energy Regulatory Commission

[Docket No. RP00-162-002]

Panhandle Eastern Pipe Line Company; Notice of Compliance Filing

February 29, 2000.

Take notice that on February 24, 2000, Panhandle Eastern Pipe Line Company (Panhandle) tendered for filing as part of its FERC Gas Tariff, First Revised Volume No. 1, those pro forma tariff sheets listed on Appendix A attached to the filing.

Panhandle states that the purpose of this filing is to comply with Ordering Paragraph (B) of the Commission's Order, 90 FERC ¶61,119 (February 9, 2000) (Order) in the above-referenced proceeding.

Panhandle states that copies of this filing are being served on all affected customers, applicable state regulatory agencies and parties to the proceeding.

Any person desiring to protest this filing should file a protest with the Federal Energy Regulatory Commission, 888 First Street, N.E., Washington, D.C. 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-5265 Filed 3-3-00; 8:45 am]

BILLING CODE 6717-01-M